ENVIRONMENTAL PROTECTION AGENCY

[Petitions IV-2014-13; FRL-9992-57-Region 4]

Clean Air Act Operating Permit Program; Petition for Objection to State Operating Permit for Piedmont Natural Gas—Wadesboro Compressor Station (Anson County, North Carolina)

AGENCY: Environmental Protection Agency (EPA).

ACTION: Notice of final order on petitions to object to state operating permits.

SUMMARY: The EPA Administrator signed an Order, dated March 20, 2019, denying the petition submitted by Pee Dee Water Air Land and Lives and the Blue Ridge Environmental Defense League (Petitioners) objecting to a proposed Clean Air Act (CAA) title V operating permit issued to Piedmont Natural Gas (PNG) for its facility located in Wadesboro, Anson County, North Carolina. The Order responds to an October 3, 2014, petition requesting that EPA object to the proposed initial permit number 10097T01. This permitting action was issued by the North Carolina Department of Environment and Natural Resources (NCDENR). The Order constitutes a final action on the petition addressed therein.

ADDRESSES: Copies of the Order, the petition, and all pertinent information relating thereto are on file at the following location: EPA Region 4; Air, Pesticides and Toxics Management Division; 61 Forsyth Street SW, Atlanta, Georgia 30303-8960. The Order is also available electronically at the following address: https://www.epa.gov/title-v-operating-permits/2019-order-denying-petition-object-title-v-operating-permit-png-wadesboro.

FOR FURTHER INFORMATION CONTACT: Art Hofmeister, Air Permitting Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioners submitted a petition requesting that EPA object to the proposed CAA title V operating permit no. 10097T01 issued by NCDENR to PNG. Petitioners claim that this permitting action: Failed to meet the requirements for adequate public notice; grossly underestimates emissions and, thus, fails to assure compliance with national ambient air quality standards and state implementation standards; fails to include adequate monitoring to assure compliance with applicable opacity standards; and failed to include an environmental justice analysis.

On March 20, 2019, the Administrator issued an Order denying the petition. The Order explains EPA's basis for denying the petition.

Dated: April 11, 2019.
Mary S. Walker,
Acting Regional Administrator, Region 4.

[FR Doc. 2019-08160 Filed 4-22-19; 8:45 am]

BILLING CODE 6560-50-P